DEPARTMENT OF THE INTERIOR

Bureau of Land Management

[ID-220-5101-ER-D025; IDI-33676]

Notice of Availability, Cotterel Wind Power Project Draft Environmental Impact Statement/Resource Management Plan Amendment

AGENCY: Lead Agency—Bureau of Land Management, Interior. Cooperating Agencies—U.S. Fish and Wildlife Service, Interior; Bureau of Reclamation, Interior; Bonneville Power Administration; Idaho Department of Lands; Cassia County Commissioners. Participating Agency—Idaho Department of Fish and Game.

ACTION: Notice of availability of the Cotterel Wind Power Project Draft Environmental Impact Statement/Resource Management Plan Amendment.

SUMMARY: In accordance with the National Environmental Policy Act of 1969 (42 U.S.C. 4321); the Federal Land Policy and Management Act of 1976 (43 U.S.C. 1701), as amended; and the Council on Environmental Quality regulations (40 CFR parts 1500-1508), the Burley, Idaho Field Office of the Twin Falls District of the Bureau of Land Management (BLM), located in Cassia County, has prepared a draft environmental impact statement (DEIS)/resource management plan amendment (DEIS/Amendment) to consider whether or not to grant a right-of-way and amend the 1985 Cassia Resource Management Plan (Cassia RMP).

DATES: Written comments will be accepted for 90 days following the date the Environmental Protection Agency publishes its Notice Availability in the Federal Register. The BLM intends to hold three public meetings during the 90-day comment period, one each in Boise, Burley, and Albion, Idaho. BLM will announce all public meeting times and locations at least 15 days in advance through public notices, media news releases, and/or newsletter mailings. In addition, information on public meetings may be posted on the Internet at http://www.id.blm.gov/planning/cotterel.

ADDRESSES: Copies of the DEIS/Amendment are available upon request from the Burley Field Office, Twin Falls District, 15 East, 200 South, Burley, Idaho, 83318, phone 208-677-6678, or by email to scott_barker@blm.gov. You may request either a hard copy or a computer disc (cd). A copy of the DEIS/Amendment may also be posted on the Internet at http://www.id.blm.gov/planning/cotterel.

To receive full consideration, comments must be postmarked no later than the last day of the written comment period. (The last day of the written comment period may be identified at the Internet address above, after publication of the EPA Notice of Availability in the Federal Register.)

You may submit comments on the DEIS/Amendment using any of the following methods:

• Mail: Scott Barker, Project Manager, Burley Field Office, Twin Falls District, Bureau of Land Management, 15 East, 200 South, Burley, Idaho 83318.

• Fax: 208-677-6699.

• Email: id_cotterelwind@blm.gov.

• Hyperlink: id_cotterelwind@blm.gov.

All public comments, including the names and mailing addresses of respondents, will be available for public review at the Burley Field Office in Burley, Idaho during regular business hours from 7:45 a.m. to 4:30 p.m., Monday through Friday, except holidays, and may be published as part of the Final EIS/Amendment. Individual respondents may request confidentiality. If you wish to withhold your name or address from public review or from disclosure under the Freedom of Information Act, please state this prominently at the beginning of your written correspondence. The BLM will honor such requests to the extent allowed by law. All submissions from organizations and businesses, and from individuals identifying themselves as representatives or officials of organizations or businesses, will be available for public inspection in their entirety.

FOR FURTHER INFORMATION CONTACT: Scott Barker, Project Manager, BLM Burley Field Office, 15 East, 200 South, Burley, Idaho 83318, phone 208-677-6678, fax (209) 677-6699; or email: scott_barker@blm.gov.

SUPPLEMENTARY INFORMATION: Windland, Inc., in partnership with Shell Wind Energy, Inc., a wholly owned subsidiary of the Royal Dutch/Shell Group of Companies, is proposing to construct, operate and maintain a wind-powered electric generation facility on the ridgeline of Cotterel Mountain, near the towns of Albion, Malta, and Burley, Idaho. The DEIS/Amendment analyzes and discloses the effects of four alternatives, including the Proposed Action and No Action. Alternative A, the No Action Alternative, reflects existing direction in the Cassia RMP. Alternative B is the proponent's proposed action, as submitted in their right-of-way application. Alternative C, the agency preferred alternative, is a modification of the proposed action that includes fewer but larger-output wind turbines, alternative access, alternative transmission line locations, and alternative turbine types. Alternative D is a modified version of Alternative C with a reduced number of wind turbines.

The proposed action is not consistent with the Cassia RMP, which does not allow for the granting of rights-of-ways in the proposed project area. Therefore, the proposed plan amendment would allow for the decision maker to grant a right-of-way should that person decide to do so.

Dated: May 5, 2005.
Wendy Reynolds,
Burley Field Office Manager, Bureau of Land Management.

[FR Doc. 05-12162 Filed 6-20-05; 8:45 am]

BILLING CODE 4310-GG-P